DEPARTMENT OF ENERGY

Environmental Impact Statement: Site Selection for the Expansion of the Strategic Petroleum Reserve

AGENCY: Department of Energy (DOE).

ACTION: Notice to reopen the public scoping period and hold a public scoping meeting.

SUMMARY: On September 1, 2005, DOE announced its intention to prepare an environmental impact statement (EIS) for site selection and expansion of the Strategic Petroleum Reserve as required by the Energy Policy Act of 2005 (70 FR 52088). DOE at that time planned to assess the impacts of capacity expansion at three of the four existing storage sites and the development of a new storage site in the Gulf Coast region. Three scoping meetings were held and the scoping period, which was extended in response to conditions following Hurricane Katrina, closed on October 28, 2005 (70 FR 56649; September 28, 2005). On October 27, 2005, the Governor of Mississippi requested the Secretary of Energy to include a new site at Bruinsburg Salt Dome in the analysis of potential sites and environmental impacts for the proposal to expand the storage capacity of the Strategic Petroleum Reserve. In light of this request, DOE has reopened the public scoping period and scheduled another scoping meeting.

DATES: With the publication of this notice, the public scoping period is reopened and will extend through December 19, 2005. DOE invites interested agencies, organizations, Native American tribes, and members of the public to submit comments or suggestions to assist in identifying significant environmental issues and in determining the appropriate scope of the EIS. Written and oral comments will be given equal weight, and DOE will consider all comments received or postmarked by December 19, 2005, in defining the scope of the draft EIS. Comments postmarked after this date will be considered to the degree practicable.

The scoping meeting will be held on December 7, 2005. The location of the public scoping meeting was selected based on its proximity to the proposed new oil storage site at Bruinsburg and the availability of public meeting facilities.

ADDRESSES: The scoping meeting will be held in Port Gibson, Mississippi, on December 7, 2005, 7 p.m. to 9 p.m., at the Claiborne County Multi-Purpose Building, 1703 Bridewell Lane, Port Gibson, Mississippi. Telephone: 601-437-5419.

FOR FURTHER INFORMATION, CONTACT: Comments or suggestions on the scope and content of the EIS and requests to speak at the scoping meeting should be directed to Donald Silawsky, Office of Petroleum Reserves (FE-47), U.S. Department of Energy, 1000 Independence Avenue, SW., Washington, DC 20585-0301; telephone: 202-586-1892; fax: 202-586-4446; or electronic mail at Donald.Silawsky@hq.doe.gov. Envelopes and the subject line of e-mails or faxes should be labeled “Scoping for the SPR EIS.” Please note that conventional mail to DOE may be delayed by anthrax screening. For information on the proposed project or to receive a copy of the Draft EIS when it is issued, contact Donald Silawsky by any of the means listed above. Additional information may also be found on the DOE Fossil Energy Strategic Petroleum Reserve proposed expansion Web site at http://fossil.energy.gov/news/techlines/2005/tl_spr_noi.html.

For information on the DOE NEPA process, contact Carol M. Borgstrom, Director, Office of NEPA Policy and Compliance (EH-42), U.S. Department of Energy, 1000 Independence Avenue, SW., Washington, DC 20585-0119; telephone: 202-586-4600 or leave a toll-free message at: 800-472-2756; fax: 202-586-7031; or electronic mail at askNEPA@eh.doe.gov.

Issued in Washington, DC, on November 16, 2005.
Mark Matarrese,
NEPA Compliance Officer, Office of Fossil Energy.

[FR Doc. 05-23117 Filed 11-21-05; 8:45 am]

BILLING CODE 6450-01-P